DEPARTMENT OF TRANSPORTATION

Federal Railroad Administration

Regulations Governing Certain Positive Train Control System Outages

AGENCY: Federal Railroad Administration (FRA), Department of Transportation (DOT).

ACTION: Notice.

SUMMARY: The purpose of this notice is to inform the public about FRA's regulations that currently govern certain outages of positive train control (PTC) systems during, for example, infrastructure upgrades and capital projects. This notice also contains information about the process a railroad must follow to obtain FRA's approval before temporarily disabling its PTC system for such purposes.

FOR FURTHER INFORMATION CONTACT: For technical questions, please contact Gabe Neal, Staff Director, Signal, Train Control, and Crossings Division, telephone: 816-516-7168, email: Gabe.Neal@dot.gov. For legal questions, please contact Stephanie Anderson, Attorney Adviser, telephone: 202-834-0609, email: Stephanie.Anderson@dot.gov.

SUPPLEMENTARY INFORMATION: By law, PTC systems must govern operations on PTC-mandated main lines, which currently encompass approximately 58,000 route miles, and include Class I railroads' main lines over which poison- or toxic-by-inhalation hazardous materials are transported and any railroads' main lines over which intercity or commuter rail passenger transportation is regularly provided.¹

¹ Title 49 United States Code (U.S.C.) 20157; Title 49 Code of Federal Regulations (CFR) 236.1005(b), 236.1006(a). This requirement does not apply, however, to a railroad's controlling locomotives that are subject to either a temporary or permanent exception under 49 U.S.C. 20157(j)-(k) or 49 CFR 236.1006(b).

Previously, FRA's regulations permitted railroads to temporarily disable PTC systems where necessary to perform PTC system repair or maintenance.² That temporary flexibility expired, by regulation, on December 31, 2022.³ Under that temporary provision, railroads were required only to notify to FRA; seeking FRA's approval was not necessary.

² 49 CFR 236.1029(g)(3).

³ Id.

FRA appreciates that several types of PTC systems can be upgraded seamlessly, without necessitating an interruption of PTC system service. FRA also recognizes, however, that in limited cases, even those types of PTC systems might experience temporary outages for a short period during certain infrastructure upgrades.⁴ In addition, FRA understands that the design of certain PTC systems, including the Advanced Civil Speed Enforcement System II on the Northeast Corridor, may require more extended periods of outages to facilitate ongoing capital projects. FRA expects that, in such a case, a railroad would schedule the temporary disabling of its PTC system for the time posing the least risk to railroad safety and for the minimum time necessary to complete the capital project and recommission its PTC system.⁵

⁴ For example, FRA is aware of multiple railroads' electrical infrastructure upgrade projects that involved disabling the PTC system for a maximum period of four hours.

⁵ See 49 CFR 236.1029(g)(3)(ii), 236.1033(f).

As noted above, 49 CFR 236.1029(g)(3) previously permitted railroads to temporarily disable their PTC systems, with just notification to FRA; however, that provision expired on December 31, 2022, and is therefore no longer available for railroads to utilize. Now, if a railroad needs to disable its PTC system temporarily for maintenance or upgrade purposes, a railroad must obtain FRA's approval under 49 CFR 236.1021, Discontinuances, material modifications, and amendments, before temporarily disabling its PTC system or initiating a PTC system service outage. To obtain FRA's approval in this context, a railroad must submit a request to amend its FRA-certified PTC system pursuant to 49 CFR 236.1021(m), which outlines the process, content requirements, and FRA decision deadline (i.e., 45 days) for this specific type of request for amendment (RFA).

Under 49 CFR 236.1021(e), FRA's regulations provide that FRA will publish a notice in the Federal Register and invite public comment, if an RFA includes a request for approval of a material modification or discontinuance of a PTC system. During FRA's review of a railroad's RFA, FRA will consider any comments or data submitted within the timeline specified in the notice and to the extent practicable, without delaying implementation of valuable or necessary safety and functional modifications to a PTC system. See 49 CFR 236.1021; see also 49 CFR 236.1011(e).

In addition, 49 CFR 236.1021(f) specifies that FRA will review the RFA, including the proposed temporary outage, and determine whether granting the request is “in the public interest and consistent with railroad safety, taking into consideration all changes in the method of operation and system functionalities, both within normal PTC system availability and in the case of a system failed state (unavailable).” If FRA approves the railroad's request to amend its FRA-certified PTC system, involving a limited outage period, FRA may attach conditions to that approval, which may include, for example, the following types of conditions, among other reporting requirements:

(1) The host railroad and its applicable tenant railroads must comply with the operating rules specified in the host railroad's FRA-approved PTCSP that would otherwise apply when a PTC system is temporarily disabled;

(2) The host railroad shall make reasonable efforts to schedule the temporary disabling of its PTC system for times posing the least risk to railroad safety;

(3) The host railroad shall notify FRA (via PTC.Correspondence@dot.gov) and each applicable tenant railroad at least 7 days before the host railroad temporarily disables its PTC system. In its notification, the host railroad must include the exact date and period of time during which the PTC system will be disabled, and explain how that date and period of time pose the least risk to railroad safety;

(4) The host railroad shall notify all applicable train crews, including tenant railroads' train crews, about the PTC system outage, including in accordance with the host railroad's operating rules and practices, which may require, for example, such information to be provided via track bulletins, dispatcher bulletins, or special instructions;

(5) The host railroad shall place its PTC system back into service without undue delay, and the PTC system may not be disabled longer than the approved timeframe; and

(6) During the period in which the PTC system is temporarily disabled, the host railroad and its tenant railroads must comply with the operating restrictions under 49 CFR 236.1029(b), including the applicable speed limitations.

Please be advised that this notice focuses on outages resulting from infrastructure upgrades or capital projects and does not address all types of PTC system outages. Other provisions in FRA's PTC regulations may instead apply and govern, depending on the exact circumstances. For example, please see 49 CFR 236.1005(g) through (k) for the requirements and procedures associated with temporary rerouting for emergencies or planned maintenance. In addition, please see 49 CFR 236.1029(b), which outlines the requirements that apply when a railroad's PTC system experiences an en route failure, including a cut out or malfunction.

FRA remains available to provide technical assistance to railroads and other stakeholders and to advise about any railroad-specific scenarios that may arise. FRA appreciates railroads' commitment to operating their FRA-certified, interoperable PTC systems on PTC-mandated main lines, as generally required by law, outside these special, limited circumstances.

Issued in Washington, DC.
John Karl Alexy,
Associate Administrator for Railroad Safety, Chief Safety Officer.

[FR Doc. 2023-08839 Filed 4-26-23; 8:45 am]

BILLING CODE 4910-06-P